ENVIRONMENTAL PROTECTION AGENCY

40 CFR Part 52

[IL213-1b; FRL-7107-6]

Approval and Promulgation of Implementation Plans; Illinois

AGENCY: Environmental Protection Agency (EPA).

ACTION: Proposed rule.

SUMMARY: The EPA is proposing to approve revisions to volatile organic compound (VOC) rules for Vonco Products, Incorporated (Vonco). This flexographic printing facility is located in Lake County, Illinois. The March 28, 2001, revisions consist of an adjusted standard from the Flexographic Printing Rule, 35 IAC 218.401(a), (b), and (c). The adjusted standard conditions include a reduction in trading allotments should Vonco's emissions trigger participation in the Illinois market-based emissions trading system, maintaining daily records of inks and VOC content, conducting trials of compliant inks, and reviewing alternate control technologies. The Illinois Pollution Control Board approved this adjusted standard because the Board considers this to be Reasonably Achievable Control Technology for Vonco.

DATES: The EPA must receive written comments by December 31, 2001.

ADDRESSES: You should mail written comments to: J. Elmer Bortzer, Chief, Regulation Development Section, Air Programs Branch (AR-18J), U.S. Environmental Protection Agency, Region 5, 77 West Jackson Boulevard, Chicago, Illinois 60604.

You may inspect copies of Illinois' submittal at: Regulation Development Section, Air Programs Branch (AR-18J), U.S. Environmental Protection Agency, Region 5, 77 West Jackson Boulevard, Chicago, Illinois 60604.

FOR FURTHER INFORMATION CONTACT: Matt Rau, Environmental Engineer, Regulation Development Section, Air Programs Branch (AR-18J), U.S. Environmental Protection Agency, Region 5, 77 West Jackson Boulevard, Chicago, Illinois 60604, Telephone: (312) 886-6524.

SUPPLEMENTARY INFORMATION: Throughout this document wherever “we,” “us,” or “our” are used we mean the EPA.

Table of Contents

I. What actions are the EPA taking today?

II. Where can I find more information about this proposal and the corresponding direct final rule?

I. What Actions Are the EPA Taking Today?

The EPA is proposing to approve revisions to VOC rules for Vonco of Lake County, Illinois. The revisions consist of an adjusted standard from the Flexographic Printing Rule. The adjusted standard conditions include reducing the market-based emissions trading system baseline, maintaining daily records of inks and VOC content, conducting trials of compliant inks, and reviewing alternate control technologies.

The adjusted standard reduces the emissions trading program baseline for Vonco. If its emissions trigger participation in the program, the market-based trading system will allow Vonco to buy emissions allotments from companies which can reduce their VOC emissions at a lower cost than Vonco can. The total VOC emissions of all participants meets the desired reductions. Limiting VOC emissions will help to reduce ozone because VOC can chemically react in the atmosphere to form ozone.

II. Where Can I Find More Information About This Proposal and the Corresponding Direct Final Rule?

For additional information see the direct final rule published in the rules section of this Federal Register.

List of Subjects in 40 CFR Part 52

Environmental protection, Air pollution control, Intergovernmental relations, Reporting and recordkeeping requirements, Volatile organic compounds.

Dated: November 9, 2001.
David A. Ullrich,
Deputy Regional Administrator, Region 5.

[FR Doc. 01-29656 Filed 11-29-01; 8:45 am]

BILLING CODE 6560-50-P